DEPARTMENT OF ENERGY

Control of Releases of Materials with Residual Radioactive Contamination from DOE Facilities

AGENCY: U.S. Department of Energy, DOE.

ACTION: Notice of availability and opportunity for public comment.

SUMMARY: In July 2000, DOE suspended the unrestricted release of scrap metal for recycling from radiological areas within DOE facilities until improvements in release criteria have been developed and implemented. DOE is proposing criteria for controlling the release of materials with residual radioactive contamination and procedures for better management of information concerning these releases. The proposed criteria for the release of scrap metal for recycling would require that no radioactivity be detectable above background using DOE-approved measurement protocols prior to the release from a DOE site.

DATES: The comment period will end on December 4, 2000.

ADDRESSES: The proposed changes, the January 12, 2000 memorandum, the July 13, 2000 memoranda, and other relevant information will be available on the World-Wide Web at http://tis.eh.doe.gov/portal or at http://www.eh.doe.gov/oepa under “Focus Areas,” then select “DOE Directives Development Initiative for the Management and Release of Surplus Materials,” and then “Public Documents.” Hard copies are also available from the persons listed below under information contacts. You may examine written comments between 9 AM and 4 PM at the U.S. Department of Energy Freedom of Information Public Reading Room, Room 1E-190, 1000 Independence Avenue, SW, Washington, DC, 202-586-3142.

To Provide Comments and for Further Information Contact: Comments and inquiries may be addressed to: Harold T. Peterson, Jr., Tele. (202) 586-9640, harold.peterson@hq.doe.gov or Stephen L. Domotor, stephen.domotor@hq.doe.gov, Tele. (202) 586-0871.

Air, Water and Radiation Division, Office of Environmental Policy and Guidance, U.S. Department of Energy (EH-41), 1000 Independence Avenue, SW, Washington, DC 20585.

SUPPLEMENTARY INFORMATION:

I. Background

Under the Atomic Energy Act of 1954, 42 U.S.C. 2201, et seq., and other law, the Department conducts atomic energy defense and research and development activities at various sites around the Nation. These activities are carried out by prime contractors who manage and operate the sites pursuant to DOE policies enforceable under the provisions of the contracts and under the oversight of DOE employees. A standard provision of these prime contracts is the Laws, Regulations and Directives Clause which is set forth in DOE's Acquisition Regulation at title 48 of the Code of Federal Regulations. The clause provides for an appendix which, among other things, lists the DOE administrative directives, including DOE Orders, that are enforceable under the contracts. DOE Order 5400.5, Radiation Protection of the Public and Environment, is one of those directives. Today DOE is making available for public comment proposed revisions to that Order.

On January 12, 2000, the Secretary of Energy issued a moratorium on the Department's release of volumetrically-contaminated metals pending a decision by the Nuclear Regulatory Commission (NRC) whether to establish national standards. The NRC continues to review the issue and the moratorium remains in effect. At that time, the Secretary created a task force to review the Department's policy on releasing materials from DOE sites. The task force reviewed past practices and made recommendations for improving monitoring, documentation, reporting and coordination.

On July 13, 2000, the Secretary of Energy issued a memorandum directing the Assistant Secretary for Environment, Safety and Health to revise DOE directives and associated guidance documents applicable to scrap metal releases. The Secretary's memorandum directed action in four areas: (1) Improvement of the Department's release criteria and monitoring practices; (2) expansion of efforts to promote reuse and recycling within the complex of DOE facilities; (3) improvement of the Department's management of information about material inventories and releases; and (4) the accelerated recovery of sealed sources. The July 13th memorandum also suspended the unrestricted release for recycling of scrap metal from radiological areas within DOE facilities. This suspension will remain in effect until improvements in DOE release criteria and information management have been developed and implemented. The Secretary stated that DOE would not allow the release of scrap metals for recycling if contamination from DOE operations is detected using appropriate, commercially-available monitoring equipment and approved procedures.

The purpose of this notice is to solicit public comment on two new chapters (Chapters V and VI) to DOE Order 5400.5 that DOE developed to implement this policy.

II. Questions and Answers Regarding the Changes to the DOE Order 5400.5

A. What requirements did DOE Order 5400.5 place on releasing materials that may have small quantities of radioactive materials?

The current DOE policy for controlling the release of materials is set forth in the existing Order DOE 5400.5. The Order requires, and will continue to require in the proposed changes, the establishment of DOE-approved authorized limits for releases based on the ALARA (“As Low as is Reasonably Achievable”) process. For surface activity, the radioactive materials can be measured by conventional radiation monitoring instruments and the levels must be less than the Surface Activity Guidelines in Figure IV.1 of DOE Order 5400.5 (reprinted as Table 1 in a November 17, 1995 guidance memorandum). The latter document, as well as the full DOE Order 5400.5, is available on the Office of Environmental Policy and Guidance's website: http://www.eh.doe.gov/oepa under “Policy and Guidance.” Select “Radiation Protection (Atomic Energy Act)” from the subject area listing. The existing Order 5400.5 is item 20 and the November 17, 1995 guidance memorandum is item 8. For new information supporting the revised policy, such as the implementation guidance, go to: “Focus Areas” and “DOE Directive Development Initiative for the Management and Release of Surplus Materials.”

Under the current Order, authorized limits for releases of surface contaminated materials that conform to these Surface Activity Guidelines can be approved by a DOE Field Office. Contractors develop these Authorized Limits for DOE approval by following the DOE ALARA process. The current Order permits use of alternative limits in place of these Surface Activity Guidelines if they are reviewed and approved by the Assistant Secretary for Environment, Safety and Health.

In contrast to surface contamination, property that contains radioactive materials distributed throughout its volume is generally more difficult to measure and evaluate. In some cases, samples of materials have to be taken for laboratory analysis. DOE does not have numerical guidelines on concentrations of volumetrically-distributed radioactive material that can be released. Under DOE Order 5400.5, release of these volumetrically contaminated materials would require a case-by-case review and approval by the Assistant Secretary for Environment, Safety and Health. However, under the moratorium of January 12, 2000, volumetrically-contaminated metals cannot be released until the moratorium is lifted by DOE. The surface guideline values are repeated in the Table VI-1 in the proposed changes.

B. What does the Secretary's new policy require as reflected in the proposed change to the DOE Order 5400.5?

The Secretary's memorandum requires improvements in the collection, maintenance, reporting of information associated with releases of surplus equipment, scrap metals and other excess personal property. The revised release policy reflected in the proposed change to the Order primarily affects one class of materials—scrap metals that were in a radiological area and are intended to be recycled into general commerce. The proposed change would require that these metals exhibit no detectable radioactivity content above background prior to their release from a DOE site (i.e., any residual radioactivity cannot be detected above background using DOE-approved measurement protocols. DOE is preparing new guidance to specify how to perform the measurements necessary to demonstrate “no detectable activity.”

C. Are the proposed changes new requirements?

The proposed changes are generally consistent with the existing version of the Order as well as guidance and implementation practices. This notice reflects DOE's intent to add two chapters to Order 5400.5: (1) Chapter V, Control and Release of Personal Property Including Metals for Recycling, contains requirements for personal property management and specifically addresses the Secretary's policy to limit the release of scrap metal for recycling to metal that has no detectable residual radioactive contamination and (2) Chapter VI, General Requirements for the Release of Property, which contains DOE's general requirements for controlling the release of property. Chapter VI also includes existing practices currently set forth in guidance and proposed improvements in monitoring, documentation and information management.

The two new chapters place additional emphasis on the public availability of information, record-keeping requirements and procedures for implementing the additional constraints established for recycled metal. The major refinement contained in the new chapters is the requirement to base authorized limits for scrap metals to be recycled on whether radioactivity can be detected above background using approved measurement protocols.

III. Questions and Answers Concerning Recycling of Metals

A. Can metal or equipment from a radiological area be released for reuse under the proposed restrictions?

Yes, in some cases. Equipment from a radiological area may be released and reused for its intended purpose or released through current property management systems for reuse. For example, a machine tool may be reused or sold for reuse as a tool as long as it meets current surface release limits for radiological materials as defined in Order DOE 5400.5 and associated guidance. Similarly, metal items may be surveyed and released as long as they are used in their present form. Both the existing Order and the proposed changes allow these results (so long as it does not violate the moratorium).

Under the proposed changes, the key factor in determining what is permissible is whether the metal will be melted and re-fabricated into new products. All cases that involve re-melting and remanufacturing of scrap metal released from radiological areas are considered to be recycling and would have to conform to the new proposed standard on non-detectable activity above background prior to release, unless the new product is to be used within the DOE complex or under an NRC or NRC Agreement State license.

B. What will DOE's responsibility be to assure that material or equipment sold is used for its intended purpose and not remelted as scrap?

The proposed changes allow scrap metal that does not meet the non-detectable release criterion to be released only for restricted recycling with a designated use (such as waste containers), if the scrap metal meets approved authorized limits and there is reasonable assurance that the property will not be recycled into general commerce. Extensive documentation is required including a description of any restrictions on use or disposition of the property and the specific process or means that provide a reasonable expectation that the restrictions or controls will be implemented.

C. May a DOE contractor release radioactive contaminated scrap metal to an NRC licensee?

DOE contractors may not transfer scrap metal to an NRC (or Agreement State) licensee or to another DOE facility for the purpose of releasing the metal for recycling into commerce by the licensee unless that scrap metal meets the zero-detectable activity release criterion at the time that it is released from the DOE site.

D. May a DOE contractor transfer suspect contaminated materials to an NRC (or Agreement State) licensee for a purpose other than recycling into general commerce?

Materials and equipment may be transferred to an NRC (or Agreement State) licensee in accordance with any license provisions. Metal may be transferred to an NRC or Agreement State licensee for use other than recycling if the material is properly surveyed and it meets the applicable DOE authorized release limit. If the material is not going to be recycled into general commerce and it will be used within the licensee's facility, then it has to meet any possession limits placed on the recipient by the NRC or an NRC Agreement State, but is not required to meet the non-detectable release criterion.

E. What effect does the January 12, 2000 moratorium on the release of volumetrically contaminated metals have on the proposed changes?

On January 12, 2000, the Secretary issued a moratorium prohibiting the Department's release of volumetrically contaminated metals pending a decision by the NRC whether to establish national standards. The NRC continues to review the issue and the moratorium remains in effect. While the proposed changes to the Order continue to allow the release of DOE materials under various criteria, DOE may not release volumetrically contaminated metals under either the proposed changes or the current Order until the ban is lifted.

F. What effect do the proposed changes have on the July 13, 2000 suspension of release of recycled scrap metal?

On July 13, 2000, the Secretary suspended the unrestricted release of scrap metals for recycling from radiation areas within DOE facilities until improvements in DOE release criteria and information management have been developed and implemented. The Secretary stated that upon certification that each DOE site has met all the requirements of the revised order and has a local public participation program, sites may resume unrestricted release of scrap metals for recycling. Adoption of the proposed changes is an essential element in satisfying the criteria for lifting the suspension.

IV. What New Implementation Programs and Procedures are Required?

DOE's Office of Environment, Safety and Health, through its Office of Environmental Policy and Guidance (EH-41) has developed these additional chapters and modifications to Order DOE 5400.5 to implement the Secretary's policy. The proposed changes would require contractors operating DOE facilities to have a program and procedures in place to ensure that: (1) Metal released for recycling contains no detectable residual radioactive contamination, (2) the release of all property from DOE control meets DOE radiation protection requirements, and (3) releases of surplus equipment, scrap metal and other excess personal property are appropriately documented, reported, certified and verified so that the public has full access to information relating to such releases.

A. How is DOE improving release criteria and monitoring?

Although these concepts were implicitly part of the existing release clearance process, they would become explicitly part of the new procedures in the proposed Chapter VI. This more clearly presents the process and criteria for establishing authorized limits and provides more specific guidance on survey and monitoring procedures. Information on responsibilities for surveying, certifying and carrying out independent verification is also contained in the proposed new chapters. The procedures in the proposed new chapters would require more detailed documentation of the establishment of authorized limits, survey and verification measurements and the certification of releases.

B. How will the new procedures improve information management?

Chapter V would require that the process of implementing these new requirements be coordinated with the public and that this coordination be integrated into existing site public advisory and coordination activities. Although public information programs have been in existence for some time at DOE sites, these new requirements would require that this information be available to the public. DOE proposes to make available an annual summary report of property released under these requirements at each site. DOE is also proposing to require that the authorized limits used for materials releases, the quantities released, and summaries of the certification and verification information be summarized in the annual site environmental reports (ASERs).

V. Topics on Which Public Comment is Sought

1. Comments are sought on how the economic value of the metal should be factored into a decision regarding its disposition?

2. Comments are solicited on both on the desirable and attainable sensitivity of radiation monitoring devices including survey meters, portable spectrometers, bulk measurement detectors, and truckload monitors. Information on the cost of monitors would also be useful.

Signed this 5th day of October 2000.
David Michaels,
Assistant Secretary, Environment, Safety and Health.

[FR Doc. 00-26155 Filed 10-11-00; 8:45 am]

BILLING CODE 6450-01-P